DEPARTMENT OF LABOR

Office of the Secretary

Submission for OMB Review: Comment Request

November 8, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or email: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Noise Exposure Assessment; Audiometric Testing Evaluation, and Records and Training in all Mines.

OMB Number: 1219-0120.

Frequency: On occasion and Annually.

Type of Response: Recordkeeping and Third party disclosure.

Affected Public: Business or other for-profit and State, Local, or Tribal Government.

Estimated Number of Respondents: 14,391.

Estimated Annual Responses: 848,081.

Estimated Average Response Time: Varies from 2 minutes for a mine operator to provide oral notification of the opportunity to observe noise exposure monitoring to 5 hours for an operator of a large mine to develop a system to monitor noise exposure.

Estimated Annual Burden Hours: 107,600.

Total Annualized capital/startup costs: $0.

Total Annual Costs (operating/maintaining systems or purchasing services): $4,355,111.

Description: 30 CFR part 62 requires records of miner exposures to noise so that mine operators and MSHA can evaluate the need for and effectiveness of engineering controls, administrative controls, and personal protective equipment to protect miners from harmful levels of exposure. The records are used by mine operators and MSHA to verify that the testing was done and the required actions implemented. Part 62 also requires the mine operator to provide training to overexposed miners about the hazards of noise exposure, hearing protector selection and use, the hearing test program, and the operator's noise controls. Records of training are needed to confirm that miners receive the information they need to become active participants in hearing conservation efforts.

Ira L. Mills,
Departmental Clearance Officer.

[FR Doc. 05-22676 Filed 11-15-05; 8:45 am]

BILLING CODE 4510-43-P